DEPARTMENT OF JUSTICE

Antitrust Division

Notice Pursuant to the National Cooperative Research and Production Act of 1993—National Spectrum Consortium

Notice is hereby given that, on July 2, 2021, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Intrinsix Corp., Marlborough, MA; Chip Scan, Inc., Rockaway Beach, NY; DT Professional Services LLC, Canoga Park, CA; Pennsylvania State University—Applied Research Laboratory, State College, PA; Appliedinfo Partners, Inc., Somerset, NJ; Wireless Infrastructure Association, Arlington, VA; Onclave Networks, Inc., McLean, VA; Transformational Security LLC, Columbia, MD; TurbineOne LLC, San Francisco, CA; Arete Associates, Northridge, VA; Premier LogiTech LLC, Coppell, TX; Taurean General Services, Inc., Boerne, TX; SFL Scientific LLC, Quincy, MA; Medivis, Inc., New York, NY; Sealing Technologies, Inc., Columbia, MD; Palantir USG, Inc., Palo Alto, CA; University of California San Diego, La Jolla, CA; KRI at Northeastern University LLC, Burlington, MA; Performance Defense LLC, Phoenix, AZ; RPI Group, Inc., Fredericksburg, VA; MTI Systems, Inc., Greenbelt, MD; Prizm XR, Inc., Cold Spring, NY; Sertainty Corporation, Nashville, TN; Titan Systems LLC, Lexington Park, MD; JEM Engineering LLC, Laurel, MD; Corsha, Inc., Vienna, VA; Scalable Network Technologies, Inc., Culver City, CA; Aegis Systems, Inc., New York, NY; Edaptive Computing, Inc., Dayton, OH; PeerSat LLC, Arlington, VA; Trilogy Networks, Boulder, CO; Aura Network Systems, Mclean, VA; NetNumber, Inc., Lowell, MA; Exium, Inc., Allen, TX; OmniMesh Technologies, Inc., Syracuse, NY; Sol Firm LLC, Mount Pleasant, SC; and Battelle Memorial Institute, Columbus, OH have been added as parties to this venture.

Also, Signal Hound, Inc., La Center, WA; SSC Innovations, Vienna, VA; and B23 LLC, Tysons, VA have withdrawn from this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

The last notification was filed with the Department on April 6, 2021. A notice was published in the Federal Register pursuant to Section 6(b) of the Act on May 11, 2021 (86 FR 25888).

Suzanne Morris,
Chief, Premerger and Division Statistics, Antitrust Division.

[FR Doc. 2021-18016 Filed 8-20-21; 8:45 am]

BILLING CODE P